DEPARTMENT OF DEFENSE

Office of the Secretary

[Docket ID: DOD-2010-OS-0158]

Privacy Act of 1974; System of Records

AGENCY: Office of the Secretary of Defense, DoD.

ACTION: Notice to alter a system of records.

SUMMARY: The Office of the Secretary of Defense proposes to alter a system of records in its inventory of record systems subject to the Privacy Act of 1974 (5 U.S.C. 552a), as amended.

DATES: This proposed action would be effective without further notice on January 7, 2011 unless comments are received which result in a contrary determination.

ADDRESSES: You may submit comments, identified by docket number and/Regulatory Information Number (RIN) and title, by any of the following methods:

* Federal Rulemaking Portal: http://www.regulations.gov. Follow the instructions for submitting comments.

* Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Chief, OSD/JS Privacy Office, Freedom of Information Directorate, Washington Headquarters Services, 1155 Defense Pentagon, Washington DC 20301-1155, Ms. Cindy Allard at (703) 588-6830.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on November 24, 2010, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 24, 2010.
Morgan F. Park
Alternate OSD Federal Register Liaison Officer, Department of Defense.

DWHS E02

SYSTEM NAME:

Freedom of Information Act Case Files (July 21, 2008, 73 FR 42330).

CHANGES:

SYSTEM LOCATION:

Delete entry and replace with “Washington Headquarters Services Records: Freedom of Information Division, Executive Services Directorate, Washington Headquarters Services, 1155 Defense Pentagon, Washington, DC 20301-1155.

DoD Educational Activity Records: Department of Defense Education Activity, Freedom of Information Act Requester Service Center, Executive Services Office, Financial & Business Operations Directorate, 4040 North Fairfax Drive, Arlington, VA 22203-1634.

TRICARE Management Activity Records: TRICARE Management Activity, ATTN: Freedom of Information Act Requester Service Center, 16401 East Centretech Parkway, Aurora, CO 80011-9066.”

CATEGORIES OF INDIVIDUALS COVERED BY THE SYSTEM:

Delete entry and replace with “Individuals who have requested documents under the provisions of the Freedom of Information Act (FOIA) from the Office of the Secretary of Defense/Joint Staff, the DoD Education Activity, or the TRICARE Management Activity Freedom of Information Act (FOIA) Requester Service Centers; individuals whose requests and/or records have been processed under the Freedom of Information Act and referred by other Federal agencies; and attorneys representing individuals submitting such requests.”

CATEGORIES OF RECORDS IN THE SYSTEM:

Delete entry and replace with “Records created or compiled in response to Freedom of Information Act requests and administrative appeals, i.e., original requests and administrative appeals (including requester's name, mailing address, Freedom of Information Act case number, and subject of the request, with some requesters also voluntarily submitting additional information such as telephone numbers and e-mail addresses); responses to such requests and administrative appeals; all related memoranda, correspondence, notes and other related or supporting documentation; and copies of requested records and records under administrative appeal.”

AUTHORITY FOR MAINTENANCE OF THE SYSTEM:

Delete entry and replace with “5 U.S.C. 552, Public information; agency rules, opinions, orders, records and proceedings; 10 U.S.C. 113, Secretary of Defense; and DoD 5400.7-R, DoD Freedom of Information Act (FOIA) Program.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Office of the Secretary of Defense's compilation of systems of records notices apply to this system.”

POLICIES AND PRACTICES FOR STORING, RETRIEVING, ACCESSING, RETAINING, AND DISPOSING OF RECORDS IN THE SYSTEM:

* * * * *

RETRIEVABILITY:

Delete entry and replace with “Retrieved by name of requester, subject matter, date of request, and Freedom of Information Act request case number.”

SAFEGUARDS:

Delete entry and replace with “Paper records are maintained in security containers with access only to officials based on requirements of assigned duties. Computer databases are password protected and accessed by individuals with a common access card (CAC) who have a need-to-know.”

* * * * *

SYSTEM MANAGER(S) AND ADDRESS:

Delete entry and replace with “Washington Headquarters Services records: Chief, Freedom of Information Division, Executive Services Directorate, Washington Headquarters Services, 1155 Defense Pentagon, Washington, DC 20301-1155.

DoD Education Activity records: Department of Defense Education Activity, Freedom of Information Act Requester Service Center, Executive Services Office, Associate Director For Financial & Business Operations, 4040 North Fairfax Drive, Arlington, VA 22203-1634.

TRICARE Management Activity records: TRICARE Management Activity, Freedom of Information Act Officer, 16401 East Centretech Parkway, Aurora, CO 80011-9066.”

NOTIFICATION PROCEDURE:

Delete entry and replace with “Individuals seeking to determine whether information about themselves is contained in this system of records should address written inquiries to:

For Washington Headquarters Services records: Chief, Freedom of Information Division, Executive Services Directorate, Washington Headquarters Services, 1155 Defense Pentagon, Washington, DC 20301-1155.

For DoD Education Activity records: Department of Defense Education Activity, Freedom of Information Act Requester Service Center, Executive Services Office, Associate Director For Financial & Business Operations, 4040 North Fairfax Drive, Arlington, VA 22203-1634.

For TRICARE Management Activity records: TRICARE Management Activity, ATTN: Freedom of Information Act Requester Service Center, 16401 East Centretech Parkway, Aurora, CO 80011-9066.

Requests should include the requester's name, mailing address, and signature.”

RECORD ACCESS PROCEDURES:

Delete entry and replace with “Individuals seeking access to information about themselves contained in this system of records should address written inquiries to:

For Washington Headquarters Services records: Office of the Secretary of Defense/Joint Staff Freedom of Information Act Requester Service Center, Office of Freedom of Information, Washington Headquarters, 1155 Defense Pentagon, Washington, DC 20301-1155.

For DoD Education Activity records: Department of Defense Education Activity, Freedom of Information Act Requester Service Center, Executive Services Office, Financial & Business Operations Directorate, 4040 North Fairfax Drive, Arlington, VA 22203-1634.

Note: For Department of Defense Education Activity records, a non-custodial parent or legal guardian requesting records pertaining to his or her minor child or ward must also provide evidence of that relationship. For example, such parent or legal guardian may provide a copy of a divorce decree or a child custody or guardianship order that includes the child's name.

For TRICARE Management Activity records: TRICARE Management Activity, ATTN: Freedom of Information Act Requester Service Center, 16401 East Centretech Parkway, Aurora, CO 80011-9066.

Requests for information should be in writing, signed, and provide evidence of the requester's identity, such as a copy of a photo ID or passport or similar document bearing the requester's signature. Requests must contain the requester's name, mailing address, Freedom of Information Act case number, name and number of this system of records notice and be signed.”

* * * * *

EXEMPTIONS CLAIMED FOR THE SYSTEM:

Delete entry and replace with “During the course of a Freedom of Information Act action, exempt materials from other systems of records may, in turn, become part of the case records in this system. To the extent that copies of exempt records from those `other' systems of records are entered into this Freedom of Information Act case record, Washington Headquarters Services, the DoD Education Activity, and the TRICARE Management Activity hereby claim the same exemptions for the records from those `other' systems that are entered into this system, as claimed for the original primary systems of records which they are a part.

An exemption rule for this system has been promulgated in accordance with requirements of 5 U.S.C. 553(b)(1), (2), and (3), (c), and (e) and published in 32 CFR part 311. For additional information contact the system manager.”

* * * * *

DWHS E02

SYSTEM NAME:

Freedom of Information Act Case Files.

SYSTEM LOCATION:

Washington Headquarters Services Records: Freedom of Information Division, Executive Services Directorate, Washington Headquarters Services, 1155 Defense Pentagon, Washington, DC 20301-1155.

DoD Educational Activity Records: Department of Defense Education Activity, Freedom of Information Act Requester Service Center, Executive Services Office, Financial & Business Operations Directorate, 4040 North Fairfax Drive, Arlington, VA 22203-1634.

TRICARE Management Activity Records: TRICARE Management Activity, ATTN: Freedom of Information Act Requester Service Center, 16401 East Centretech Parkway Aurora, CO 80011-9066.

CATEGORIES OF INDIVIDUALS COVERED BY THE SYSTEM:

Individuals who have requested documents under the provisions of the Freedom of Information Act (FOIA) from the Office of the Secretary of Defense/Joint Staff, the DoD Education Activity, or the TRICARE Management Activity Freedom of Information Act (FOIA) Requester Service Centers; individuals whose requests and/or records have been processed under the Freedom of Information Act and referred by other Federal agencies; and attorneys representing individuals submitting such requests.

CATEGORIES OF RECORDS IN THE SYSTEM:

Records created or compiled in response to Freedom of Information Act requests and administrative appeals, i.e., original requests and administrative appeals (including requester's name, mailing address, Freedom of Information Act case number, and subject of the request, with some requesters also voluntarily submitting additional information such as telephone numbers and e-mail addresses); responses to such requests and administrative appeals; all related memoranda, correspondence, notes and other related or supporting documentation; and copies of requested records and records under administrative appeal.

AUTHORITY FOR MAINTENANCE OF THE SYSTEM:

5 U.S.C. 552, Public information; agency rules, opinions, orders, records and proceedings; 10 U.S.C. 113, Secretary of Defense; and DoD 5400.7-R, DoD Freedom of Information Act (FOIA) Program.

PURPOSE(S):

Information is being collected and maintained for the purpose of processing Freedom of Information Act requests and administrative appeals; for participating in litigation regarding agency action on such requests and appeals; and for assisting the Department of Defense in carrying out any other responsibilities under the Freedom of Information Act.

ROUTINE USES OF RECORDS MAINTAINED IN THE SYSTEM, INCLUDING CATEGORIES OF USERS AND THE PURPOSES OF SUCH USES:

In addition to those disclosures generally permitted under 5 U.S.C. 552a(b) of the Privacy Act of 1974, these records may specifically be disclosed outside the DoD as a routine use pursuant to 5 U.S.C. 552a(b)(3) as follows:

The DoD `Blanket Routine Uses' set forth at the beginning of the Office of the Secretary of Defense's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Retrieved by name of requester, subject matter, date of request, and Freedom of Information Act request case number.

SAFEGUARDS:

Paper records are maintained in security containers with access only to officials based on requirements of assigned duties. Computer databases are password protected and accessed by individuals with a common access card (CAC) who have a need-to-know.

RETENTION AND DISPOSAL:

Paper records that are granted are destroyed two years after the date of reply. Paper records that are denied in whole or part, no records responses, responses to requesters who do not adequately describe records being sought, or do not state a willingness to pay fees, and records which are appealed or litigated are destroyed six years after final action.

Electronic records are deleted when no longer needed to support Directorate business needs.

SYSTEM MANAGER(S) AND ADDRESS:

Washington Headquarters Services records: Chief, Freedom of Information Division, Executive Services Directorate, Washington Headquarters Services, 1155 Defense Pentagon, Washington, DC 20301-1155.

DoD Education Activity records: Department of Defense Education Activity, Freedom of Information Act Requester Service Center, Executive Services Office, Associate Director For Financial & Business Operations, 4040 North Fairfax Drive, Arlington, VA 22203-1634.

TRICARE Management Activity records: TRICARE Management Activity, Freedom of Information Act Officer, 16401 East Centretech Parkway, Aurora, CO 80011-9066.

NOTIFICATION PROCEDURE:

Individuals seeking to determine whether information about themselves is contained in this system of records should address written inquiries to:

For Washington Headquarters Services records: Chief, Freedom of Information Division, Executive Services Directorate, Washington Headquarters Services, 1155 Defense Pentagon, Washington, DC 20301-1155.

For DoD Education Activity records: Department of Defense Education Activity, Freedom of Information Act Requester Service Center, Executive Services Office, Associate Director For Financial & Business Operations, 4040 North Fairfax Drive, Arlington, VA 22203-1634.

For TRICARE Management Activity records: TRICARE Management Activity, ATTN: Freedom of Information Act Requester Service Center, 16401 East Centretech Parkway, Aurora, CO 80011-9066.

Requests should include the requester's name, mailing address, and signature.

RECORD ACCESS PROCEDURES:

Individuals seeking access to information about themselves contained in this system of records should address written inquires to:

For Washington Headquarters Services records: Office of the Secretary of Defense/Joint Staff Freedom of Information Act Requester Service Center, Office of Freedom of Information, Washington Headquarters, 1155 Defense Pentagon, Washington, DC 20301-1155.

For DoD Education Activity records: Department of Defense Education Activity, Freedom of Information Act Requester Service Center, Executive Services Office, Financial & Business Operations Directorate, 4040 North Fairfax Drive, Arlington, VA 22203-1634.

Note: For Department of Defense Education Activity records, a non-custodial parent or legal guardian requesting records pertaining to his or her minor child or ward must also provide evidence of that relationship. For example, such parent or legal guardian may provide a copy of a divorce decree or a child custody or guardianship order that includes the child's name.

For TRICARE Management Activity records: TRICARE Management Activity, ATTN: Freedom of Information Act Requester Service Center, 16401 East Centretech Parkway, Aurora, CO 80011-9066.

Requests for information should be in writing, signed, and provide evidence of the requester's identity, such as a copy of a photo ID or passport or similar document bearing the requester's signature. Requests must contain the requester's name, mailing address, Freedom of Information Act case number, name and number of this system of records notice and be signed.

CONTESTING RECORD PROCEDURES:

The Office of the Secretary of Defense rules for accessing records, for contesting contents and appealing initial agency determinations are published in Office of the Secretary of Defense Administrative Instruction 81; 32 CFR part 311; or may be obtained from the system manager.

RECORD SOURCE CATEGORIES:

Individuals who submit initial requests and administrative appeals pursuant to the Freedom of Information Act; the agency records searched in the process of responding to such requests and appeals; Department of Defense personnel assigned to handle such requests and appeals; other agencies or entities that have referred to the Department of Defense requests concerning Department of Defense records or that have consulted with the Department of Defense regarding the handling of particular requests; submitters of records; and information from those that have provided assistance to the Department of Defense in making Freedom of Information Act access determinations.

EXEMPTIONS CLAIMED FOR THE SYSTEM:

During the course of a Freedom of Information Act action, exempt materials from other systems of records may, in turn, become part of the case records in this system. To the extent that copies of exempt records from those `other' systems of records are entered into this Freedom of Information Act case record, Washington Headquarters Services, the DoD Education Activity, and the TRICARE Management Activity hereby claim the same exemptions for the records from those `other' systems that are entered into this system, as claimed for the original primary systems of records of which they are a part.

An exemption rule for this system has been promulgated in accordance with requirements of 5 U.S.C. 553(b)(1), (2), and (3), (c), and (e) and published in 32 CFR part 311. For additional information contact the system manager.

[FR Doc. 2010-30716 Filed 12-7-10; 8:45 am]

BILLING CODE 5001-06-P